DEPARTMENT OF TRANSPORTATION

Surface Transportation Board

[STB Finance Docket No. 35095]

Alaska Railroad Corporation—Construction and Operation Exemption—A Rail Line Extension to Port Mackenzie, AK

AGENCY: Surface Transportation Board, DOT.

ACTION: Notice of Availability of Draft Environmental Impact Statement, Notice of Public Meetings.

SUMMARY: On December 5, 2008, Alaska Railroad Corporation (ARRC) filed a petition with the Surface Transportation Board (Board) pursuant to 49 United States Code (U.S.C.) 10502 and 10901 for the authority to construct and operate approximately 30 to 45 miles of new rail line. The proposed rail line would connect the Port MacKenzie District in Matanuska-Susitna Borough (MSB) to a point on the existing ARRC main line between Wasilla and just north of Willow, Alaska. Implementation of the proposed rail line would extend ARRC's existing freight rail service to the Port MacKenzie area, and would include construction of related structures, such as communications towers and sidings. Because construction and operation of this proposed rail line has the potential to result in significant environmental impacts, the Board's Section of Environmental Analysis (SEA) and three cooperating agencies prepared a Draft Environmental Impact Statement (Draft EIS). The cooperating agencies include the U.S. Army Corps of Engineers, Alaska District; Federal Railroad Administration; and U.S. Coast Guard, Seventeenth District.

The purpose of this Notice of Availability is to notify individuals and agencies interested in or affected by the proposed action of the availability of the Draft EIS for review and comment, and of public meetings on the Draft EIS. The Draft EIS analyzes the potential environmental impacts of the proposed action and alternatives, including the no-action alternative. The Draft EIS addresses environmental issues and concerns identified during the scoping process. It also contains SEA's preliminary recommendations for environmental mitigation measures, and ARRC's voluntary mitigation measures.

Public Meetings: SEA and the cooperating agencies are holding six public meetings on the Draft EIS during which interested parties may make oral comments in a formal setting and/or submit written comments. SEA will begin each meeting with a brief overview of the proposed action and environmental review process. The overview will be followed by a formal comment period during which each interested individual will be given several minutes to address the meeting participants and convey his or her oral comments. A court reporter will be present to record these oral comments. If time permits, the court reporter will be available at the conclusion of the formal segment of the meeting to record oral comments from individuals not interested in addressing the meeting as a whole. The dates, locations and times of the public meetings are shown below:

• April 6, 2010, 6:30-8:30 p.m. at Wilda Marston Theater, 3600 Denali Street, Anchorage, AK.

• April 7, 2010, 6:30-8:30 p.m. at Big Lake Elementary School, 3808 South Big Lake Road, Big Lake, AK.

• April 8, 2010, 6:30-8:30 p.m. at Menard Sports Center, 1001 S Mack Drive, Wasilla, AK.

• April 12, 2010, 6:30-8:30 p.m. at Houston Middle School, 12801 W. Hawk Lane, Houston, AK.

• April 13, 2010, 6:30-8:30 p.m., at Willow Community Center, Mile 70 Parks Highway, Willow, AK.

• April 14, 2010, 6:30-8:30 p.m. at Knik Elementary School Gym, 6350 Hollywood Boulevard, Wasilla, AK.

Next Steps: Following the close of the comment period on the Draft EIS (May 10, 2010), SEA and the cooperating agencies will issue a Final Environmental Impact Statement (Final EIS) that considers comments on the Draft EIS. The Board will then issue a final decision based on the Draft and Final EISs and all public and agency comments in the public record for this proceeding. The final decision will address the transportation merits of the proposed project and the entire environmental record. That final decision will take one of three actions: approve the proposed project, deny it, or approve it with mitigation conditions, including environmental conditions.

Written Comments: Any interested party may submit written comments on the Draft EIS regardless of whether they participate in any of the six public meetings and provide oral comments. The procedures for submitting written comments are outlined below:

Mail: Written comments should be mailed to: David Navecky, STB Finance Docket No. 35095, Surface Transportation Board, 395 E Street, SW., Washington, DC 20423.

Electronically: Written comments on the Draft EIS may also be filed electronically on the Board's Web site, http://www.stb.dot.gov, by clicking on the “E-FILING” link. Then select “Environmental Comments,” which does not require a Login Account. It is not necessary to mail written comments that have been filed electronically.

DATES: Written comments on the Draft EIS, which was served March 16, 2010, must be postmarked by May 10, 2010. Electronically filed comments must be received by May 10, 2010.

FOR FURTHER INFORMATION CONTACT: David Navecky by mail at the address above, by telephone at 202-245-0294 [FIRS for the hearing impaired (1-800-877-8339)], or by e-mail at naveckyd@stb.dot.gov. Further information about the project is also available by calling SEA's toll-free number at 1-888-257-7560, and at the Board's project-specific Web site at http://www.stbportmacraileis.com.

By the Board.
Victoria Rutson,
Chief, Section of Environmental Analysis.
Kulunie L. Cannon,
Clearance Clerk.

[FR Doc. 2010-5565 Filed 3-15-10; 8:45 am]

BILLING CODE 4915-01-P